ENVIRONMENTAL PROTECTION AGENCY

[EPA-HQ-OPPT-2014-0706; FRL-9917-18]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from August 25, 2014 to September 15, 2014.

DATES: Comments identified by the specific PMN number or TME number, must be received on or before November 5, 2014.

ADDRESSES: Submit your comments, identified by docket identification (ID) number EPA-HQ-OPPT-2014-0706, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Bernice Mudd, Information Management Division (7407), Office of Pollution Prevention and Toxics, Environmental Protection Agency, 1200 Pennsylvania Ave. NW., Washington, DC 20460-0001; telephone number: (202) 564-8951; email address: Mudd.Bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This document provides receipt and status reports, which cover the period from August 25, 2014 to September 15, 2014, and consists of the PMNs pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—37 PMNs Received From 8/25/14 to 9/15/14
Case No. | Received date | Projected notice end date | Manufacturer /importer | Use | Chemical
P-14-0806 | 8/26/2014 | 11/24/2014 | CBI | (G) Open, non-dispersive | (G) Epoxy-amine adduct, neutralized.
P-14-0807 | 8/26/2014 | 11/24/2014 | CBI | (G) Reactive polymer for waterborne industrial coating & ink applications | (G) Aromatic diacid polymer with alkyl diacid, cycloalkyl dimethanol, alkyl diisocyanate, hydroxyalkyl acrylate blocked alkyl diisocyanate homopolymer, dihydroxyalkanoic acid, alkanediol, alkali metal salt, dialkanolamine-and- hydroxyalkyl acrylate-and-polyalkyl glycol monoalkyl ether blocked.
P-14-0808 | 8/26/2014 | 11/24/2014 | CBI | (G) Process intermediate | (G) Fluoroalkene.
P-14-0809 | 8/26/2014 | 11/24/2014 | CBI | (S) Intermediate for use in the manufacture of polymers | (G) Depolymerized waste plastics.
P-14-0810 | 8/26/2014 | 11/24/2014 | SEPPIC | (S) Hydrotrope agent and performance booster | (S) D-Glucoside, heptyl.
P-14-0811 | 8/27/2014 | 11/25/2014 | CBI | (G) Lubricant additive | (G) Sulfurized hydrocarbon.
P-14-0812 | 8/27/2014 | 11/25/2014 | CBI | (S) Floor coating; general architectural and industrial coatings | (G) Isocyanate terminated polyurethane.
P-14-0813 | 8/27/2014 | 11/25/2014 | CBI | (G) Intermediate | (G) Perfluoropolyether chlorosilane.
P-14-0814 | 8/27/2014 | 11/25/2014 | CBI | (G) Surface modification coating | (G) Perfluoropolyether methoxysilane.
P-14-0822 | 8/27/2014 | 11/25/2014 | CBI | (G) Resin additive designed to be added to existing systems improving overall mechanical properties | (G) Epoxycyclohexylmethyl-epoxycyclohexane carboxylate polymer with cyclohexlamine.
P-14-0817 | 8/29/2014 | 11/27/2014 | Firmenich Incorporated | (G) As part of a fragrance formula | (S) 3-hexenoic acid, cyclopropylmethyl ester.
P-14-0818 | 8/29/2014 | 11/27/2014 | CBI | (G) Adhesive for cellulosic surfaces | (G) Cross-linked biopolymer.
P-14-0820 | 9/2/2014 | 12/1/2014 | Allnex USA Inc | (S) Industrial coating resin | (G) Formaldehyde, polymer with substituted carbomonocycles, alkyl ether.
P-14-0821 | 9/2/2014 | 12/1/2014 | Industrial Speciality Chemicals | (S) Intermediate for polymer production | (G) Glycidyl trimethylammonium bromide.
P-14-0823 | 9/3/2014 | 12/2/2014 | Allnex USA Inc | (S) Industrial Coating Resin | (G) Formaldehyde, polymer with substituted carbomonocycle, alkyl ether.
P-14-0824 | 9/3/2014 | 12/2/2014 | CBI | (G) Rape oil, reaction products with amines | (G) Rape oil, reaction products with alkylamine.
P-14-0825 | 9/3/2014 | 12/2/2014 | CBI | (G) Paint additive | (G) Amide wax.
P-14-0827 | 9/3/2014 | 12/2/2014 | Baze Chemical Company | (S) Diluted corrosion inhibitor/organic scale inhibitor intermediate | (S) Poly[oxy(methyl-1,2-ethanediyl)],alpha-(2-aminomethylethyl)-omega-(2-aminomethylethoxy)-, phosphonomethylated, sodium salts.
P-14-0827 | 9/3/2014 | 12/2/2014 | Baze Chemical Company | (S) Organic scale inhibitor intermediate for oil field scale inhibition | (S) Poly[oxy(methyl-1,2-ethanediyl)],alpha-(2-aminomethylethyl)-omega-(2-aminomethylethoxy)-, phosphonomethylated, sodium salts.
P-14-0826 | 9/3/2014 | 12/2/2014 | Rhineland Specialties, Inc | (S) Binder in paints used for marine applications | (G) Fatty acids, unsatd., polymers with hydroxy-terminated PH PR organosilica, alkylpolyhydroxide, aryl anhydride, and fatty acid.
P-14-0828 | 9/3/2014 | 12/2/2014 | CBI | (S) Polymer intermediate | (G) Formamide, N-ethenyl-, polymer.
P-14-0829 | 9/4/2014 | 12/3/2014 | CBI | (S) Surfactant for use in paints, coatings, inks, waxes, detergents, polishes, adhesives, and lubricants | (S) Pending Letter of Support.
P-14-0830 | 9/8/2014 | 12/7/2014 | CBI | (G) Additve for household cleaners and products | (S) 1-propanaminium, N,N,N-trimethyl-3-[(2-methyl-1-oxo-2-propenyl)amino]-, chloride (1:1), polymer with 2-propenamide and 2-propenoic acid, sodium salt.
P-14-0831 | 9/8/2014 | 12/7/2014 | CBI | (S) A binder for metal coating | (G) Fatty acids, polymers with acrylic monomers, bisphenol A, 2-ethoxyethanol, epichlorohydrin and styrene, alkyl peroxide-initiated, compounds (cmpds) with triethylamine.
P-14-0832 | 9/8/2014 | 12/7/2014 | CBI | (S) A binder resin for metal coating | (G) Fatty acids, polymers with acrylic monomers, bisphenol A, modified oil, epichlorohydrin and styrene, alkyl peroxide-initiated, cmpds. with triethylamine.
P-14-0833 | 9/8/2014 | 12/7/2014 | CBI | (G) Open, non-dispersive | (G) Epoxy-amine adduct, neutralized.
P-14-0834 | 9/9/2014 | 12/8/2014 | CBI | (G) Component for plastic parts coating | (G) Polyfunctional carbodiimide.
P-14-0835 | 9/11/2014 | 12/10/2014 | CBI | (G) PMN substance is a component OF inkjet ink | (G) Alkyl carboxylic acid lithium salt.
P-14-0837 | 9/12/2014 | 12/11/2014 | Henkel Corporation | (S) Hot melt adhesive and industrial bonding applications | (S) Fatty acids, C18-unsaturated (unsat'd.), dimers, polymers with azelaic acid, ethylenediamine, hexamethylenediamine, piperazine, polyoxypropylene diamine and tall-oil fatty acids.
P-14-0836 | 9/12/2014 | 12/11/2014 | Henkel Corporation | (S) Hot melt adhesive and industrial bonding applications | (S) Fatty acids, C18-unsat'd., dimers, polymers with azelaic acid, ethylenediamine, piperazine, polypropylene glycol diamine and tall oil fatty acids*.
P-14-0838 | 9/12/2014 | 12/11/2014 | CBI | (G) Component for tire | (G) Modified copolymer of buta-1,3-diene and styrene.
P-14-0840 | 9/12/2014 | 12/11/2014 | CBI | (G) Reactive hot melt adhesive for roll coating or spraying application to make panels for construction | (G) Silane cure reactive hot melt adhesive.
P-14-0841 | 9/12/2014 | 12/11/2014 | CBI | (S) Fluorescent brightener for use in paper applications | (G) Triazinylaminostilbene.
P-14-0842 | 9/12/2014 | 12/11/2014 | CBI | (G) Polymerization monomer | (G) Polycyclic hydrocarbon.
P-14-0843 | 9/15/2014 | 12/14/2014 | CBI | (G) Laundry additive | (G) Alkoxylated glycerol ester.
P-14-0844 | 9/15/2014 | 12/14/2014 | CBI | (G) Heat dissipation | (G) Organosilane treated boron nitride.
P-14-0845 | 9/15/2014 | 12/14/2014 | CBI | (G) Heat dissipation | (G) Organosilane treated oxide ceramic.

In Table II. of this unit, EPA provides the following information (to the extent that such information is not claimed as CBI) on the NOCs received by EPA during this period: The EPA case number assigned to the NOC, the date the NOC was received by EPA, the projected end date for EPA's review of the NOC, and chemical identity.

Table II—29 NOCs Received From 8/25/14 to 9/15/14
Case no. | Received date | Commencement notice end date | Chemical
P-01-0357 | 8/22/2014 | 8/5/2014 | (G) N,N' substituted aniline sulfonic acid, compound with 2,2',2“-nitrilotris [ethanol].
P-14-0539 | 8/22/2014 | 8/6/2014 | (G) Siloxanes and silicones, di-me, 3-(2-hydroxyethoxy)alkyl group-terminated, polymers with 1,4-alkanediol, di-et carbonate, alkene glycol, 1,6-alkanediol and 1,1-alkylenebis[4-isocyanatocycloalkane].
P-14-0540 | 8/22/2014 | 8/6/2014 | (G) Siloxanes and silicones, di-me, 3-(2-hydroxyethoxy)alkyl group-terminated, polymers with 1,4-alkanediol, di-et carbonate, alkene glycol, 1,6-alkanediol and 1,1-alkylenebis[4-isocyanatocycloalkane].
P-14-0052 | 8/25/2014 | 8/3/2014 | (G) Polymer modified multifunctional silane.
P-14-0500 | 8/25/2014 | 8/21/2014 | (G) Butanedioic acid, compd. with polyalkylpolyaminoamidine.
P-12-0573 | 8/26/2014 | 8/8/2014 | (G) Amine substitued quinoacridine product.
P-14-0270 | 8/26/2014 | 8/18/2014 | (G) Multifunctional novolac type epoxy resin.
P-14-0289 | 8/26/2014 | 8/18/2014 | (G) Multifunctional novolac type epoxy resin.
J-14-0017 | 8/26/2014 | 8/19/2014 | (G) Modified microalgae.
P-12-0115 | 8/27/2014 | 8/20/2014 | (G) Alkylbenzene sulfonic acid.
P-14-0143 | 8/28/2014 | 8/20/2014 | (G) Alkanaminium, substituted carbomonocycle alkylamino)carbomonocycle]alkylene]-substituted carbomonocycle, carboxylate salt.
P-13-0907 | 8/28/2014 | 8/25/2014 | (G) Epoxy resin, reaction products with alkanolamines.
P-12-0116 | 8/28/2014 | 8/28/2014 | (G) Alkylbenzene sulfonate sodium salt.
P-14-0487 | 8/29/2014 | 8/5/2014 | (G) Polyalkylaminoalkaryloxy, carboxylic acid, metal salt.
P-14-0336 | 8/29/2014 | 8/20/2014 | (S) Dodecanedioic acid, polymer with 2,2-dimethyl-1,3-propanediol.
P-14-0417 | 9/2/2014 | 8/26/2014 | (G) Aliphatic ether ethyl alcohol.
P-14-0418 | 9/2/2014 | 8/26/2014 | (G) Styrene-methacrylate copolymer.
P-13-0919 | 9/2/2014 | 8/30/2014 | (G) Glycerides, C14-C18, C16-C18 unsaturated, from algal fermentation.
P-14-0308 | 9/2/2014 | 8/30/2014 | (G) Algal biomass from fermentation.
P-14-0447 | 9/4/2014 | 8/9/2014 | (S) Alcohols, C18-22, distillation residues.
P-14-0448 | 9/4/2014 | 8/9/2014 | (S) Alcohols, C12-22, distillation residues.
P-14-0556 | 9/5/2014 | 8/21/2014 | (S) Oils, peach pulp.
P-13-0650 | 9/8/2014 | 9/3/2014 | (G) Epoxy-amine adduct, neutralized.
P-14-0547 | 9/9/2014 | 9/5/2014 | (G) Organometallic, reaction product with zirconium metallocene, silica, and aluminum alkyl.
P-14-0337 | 9/10/2014 | 8/20/2014 | (S) Poly(oxy(methyl-1,2-ethanediyl)], -hydro—hydroxy-, polymer with 1,6-diisocyanatohexane and 1,1'-methylenebis[4-isocyanatocyclohexane], caprolactam- and polyethylene glycol mono-me ether-blocked.
P-14-0450 | 9/10/2014 | 9/2/2014 | (G) Siliconate potassium.
P-14-0504 | 9/11/2014 | 9/3/2014 | (G) Alkylated urethane copolymer.
P-08-0271 | 9/12/2014 | 9/4/2014 | (S) Molybdenum, borate neodecanoate oxo complexes.
P-14-0566 | 9/15/2014 | 9/6/2014 | (G) Disubstituted alkenal.

If you are interested in information that is not included in these tables, you may contact EPA as described in Unit III. to access additional non-CBI information that may be available.

Authority: 15 U.S.C. 2601 et. seq.

Dated: September 23, 2014.
Chandler Sirmons,
Acting Director, Information Management Division, Office of Pollution Prevention and Toxics.

[FR Doc. 2014-23772 Filed 10-3-14; 8:45 am]

BILLING CODE 6560-50-P